DEPARTMENT OF AGRICULTURE

Office of Human Resources Management; 5 U.S.C. 4314(c)(4); Performance Review Board Membership

AGENCY: Office of Human Resources Management, Departmental Management, USDA.

ACTION: Notice of Performance Review Board Appointments.

SUMMARY: This notice announces the members of the Senior Executive Service and Senior Level and Scientific or Professional Performance Review Boards (PRB), as required by 5 U.S.C. 4314(c)(4). Agriculture has six PRBs: the Office of the Secretary; Departmental Management and Staff Offices; Marketing and Regulatory Programs and Food Safety; Farm and Foreign Agricultural Services; Food, Nutrition and Consumer Services; and Rural Development; Natural Resources and Environment; and Research, Education and Economics. Each PRB is comprised of a Chairperson and a mix of career and noncareer senior executives that meet annually to review and evaluate performance appraisal documents and provide a written recommendation to the Secretary for final approval of each executive's performance rating, performance-based pay adjustment, and performance award.

FOR FURTHER INFORMATION CONTACT: Roberta Jeanquart, Director, Office of Human Resources Management, telephone: (202) 260-8718, or Patricia Moore, Director, Executive Resources Management Division, telephone: (202) 720-8629.

DATES: Effective October 6, 2016.

SUPPLEMENTARY INFORMATION: In accordance with 5 U.S.C. 4314(c)(4), the USDA PRB members are named below:

Office of the Secretary

Bumbary-Langston, Inga P.; Cordova, Elvis; Moore, Patricia L.; Oden, Bianca M.; and Shorter, Malcom.

Departmental Management and Staff Offices

Abebe, Yeshimebet M.A.; Alboum, Jonathan; Dean, Telora T.; Holladay, Jon M.; Johansson, Robert C.; Leonard, Joe E.; Prieto, Jeffrey M.; and Young, Michael L.

Marketing and Regulatory Programs and Food Safety

Almanza, Alfred V.; Coale, Dana H.; Keith, Susan; Mitchell, Lawrence W.; Ricci, Carrie F.; and Shea, Anthony K.

Farm and Foreign Agricultural Services; Food, Nutrition and Consumer Services; and Rural Development

Beyerhelm, Christopher P.; Christensen, Thomas W.; Glendenning, Roger W.; Quick, Bryce R.; Jackson, Yvette S.; Salerno, Lillian E.; and Wilson, Kathryn T.

Natural Resources and Environment

Bonnie, Robert F.; Berns-Melhus, Kim M.; Rodriguez-Franco, Carlos; and Hamer Jr., Hubert.

Research, Education and Economics

Bartuska, Ann M.; Bohman, Mary E.; Hamer Jr., Hubert; Jacobs-Young, Chavonda J.; Ramaswamy, Sonny; and Smith, David W.

Dated: October 31, 2016.
Thomas J. Vilsack,
Secretary.

[FR Doc. 2016-26938 Filed 11-7-16; 8:45 am]

BILLING CODE 3410-P